NATIONAL AERONAUTICS AND SPACE ADMINISTRATION

[Notice 02-007]

NASA Advisory Council, Minority Business Resource Advisory Committee Meeting

AGENCY: National Aeronautics and Space Administration.

ACTION: Notice of meeting.

SUMMARY: In accordance with the Federal Advisory Committee Act, Public Law 92-463, as amended, the National Aeronautics and Space Administration announce a forthcoming meeting of the NASA Advisory Council, Minority Business Resource Advisory Committee.

DATES: Wednesday, January 30, 2002, 9 a.m. to 4 p.m., and Thursday, January 31, 2002, 9 a.m. to 12 noon.

ADDRESSES: NASA Ames Research Center, Center Directors Conference Room, Moffett Field, CA 94035-1000.

FOR FURTHER INFORMATION CONTACT: Mr. Ralph C. Thomas III, Code K, National Aeronautics and Space Administration, (202) 358-2088.

SUPPLEMENTARY INFORMATION: The meeting will be open to the public up to the seating capacity of the room. The agenda for the meeting is as follows:

• Review of Previous Meeting

• OSDBU Update of Activities

• NAC Meeting Report

• Overview of NASA Ames

• Overview of Small Business Program

• Public Comment

• Panel Discussion and Review

• Committee Panel Reports

• Status of Open Committee Recommendations

• New Business

It is imperative that the meeting be held on these dates to accommodate the scheduling priorities of the key participants. Visitors will be requested to sign a visitor's register.

Sylvia K. Kraemer,
Advisory Committee Management Officer, National Aeronautics and Space Administration.

[FR Doc. 02-1024 Filed 1-15-02; 8:45 am]

BILLING CODE 7510-01-P